NATIONAL FOUNDATION ON THE ARTS AND HUMANITIES

Proposed Collection, Comment Request, Current Characteristics of Sample Public Library Summer Reading Programs

AGENCY: Institute of Museum and Library Services.

ACTION: Notice, request for comments, submission for emergency OMB approval.

SUMMARY: The Institute of Museum and Library Services, as part of its continuing effort to reduce paperwork and respondent burden, invites the general public and federal agencies to comment on proposed and/or continuing collections of information in accordance with the Paperwork Reduction Act of 1995 (PRA95) [44 U.S.C. 3508 (2)(A)]. This pre-clearance comment opportunity helps to ensure that requested data can be provided in the desired format, reporting burden (time and financial resources) is minimized, collection instruments are clearly understood, and the impact of collection requirements or respondents can be properly assessed. The Institute of Museum and Library Services is currently soliciting comments concerning its planned collection of data to support discussion of current public library evaluation practices for summer reading programs.

A copy of the proposed information collection request can be obtained by contacting the individual listed below in the addressee section of this notice.

DATES: Written comments must be submitted to the office listed in the addressee section below on or before September 19, 2005.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to: Karen Motylewski, Evaluation Officer, Institute of Museum and Library Services, 1800 Massachusetts Avenue, NW., 9th floor, Washington, DC 20036-5841. Ms. Motylewski can be reached on telephone: 202-653-4686; Fax: 202-653-4625; or by e-mail at kmotylewski@imls.gov.

SUPPLEMENTARY INFORMATION Background: The Institute of Museum and Library Services is charged with strengthening library services for the benefit of the public. Under the authority of the Library Services and Technology Act IMLS provides formula-based funds to each of the 50 state library administrative agencies (SLAAs). Public library summer reading programs are common to all SLAAs and most of the nation's approximately 9,100 local libraries. These programs are important resources for education in the United States and promote the vision of a society in which learning is seen as a community-wide responsibility supported by both formal and informal educational entities. While there is strong conviction in the library field that public library summer programs foster reading skills, public libraries collect little evaluative data.

Under its convening authority IMLS will bring together 33 state and public library professionals on September 8-9 to explore current evaluation practice for public library summer reading programs and to identify a small number of common proxy measures for the outcomes of library summer reading programs. These measures will be piloted in a Web-based data collection and management resource for libraries in summer 2006.

II. Current Actions

Agency: Institute of Museum and Library Services.

Title: Current Characteristics of Sample Public Library Summer Reading Programs

OMB Number: n/a.

Agency Number: 3137.

Frequency: One time.

Affected Public: State Library Administrative Agencies and Public Libraries.

Number of Respondents: 33.

Estimate Time Per Respondent: 10 minutes.

Total Burden Hours: 5.5.

Total Annualized capital/startup costs: 0.

Total Annual costs: $1500.00.

Contact: Send comments to Karen Motylewski, Evaluation Officer, Institute of Museum and Library Services, 1800 M Street, NW., 9th Floor, Washington, DC 20036-5841. Ms. Motylewski can be reached on telephone: 202-653-4686; Fax: 202-653-4625; or by e-mail at kmotylewski@imls.gov.

Dated: August 19, 2005.
Barbara G. Smith,
E-Projects Officer, Office of Research and Technology, Authorized Liaison Officer to the Federal Register on behalf of the Institute of Museum and Library Services.

[FR Doc. 05-16837 Filed 8-23-05; 8:45 am]

BILLING CODE 7036-01-P